DEPARTMENT OF TRANSPORTATION

Coast Guard

33 CFR Part 117

[CGD08-01-028]

Drawbridge Operating Regulation; Atchafalaya River, LA

AGENCY: Coast Guard, DOT.

ACTION: Notice of temporary deviation from regulations.

SUMMARY: The Commander, Eighth Coast Guard District has issued a temporary deviation from the regulation governing the operation of the Union Pacific Railroad vertical lift bridge across the Atchafalaya River, mile 107.4, near Melville, St. Landry and Point Coupee Parishes, Louisiana. This deviation allows the Union Pacific Railroad to close the bridge to navigation from 7 a.m. until 7 p.m. on Monday, October 15, 2001 and from 7 a.m. until 7 p.m. on Wednesday, October 17, 2001. This temporary deviation is issued to allow for the removal of the existing bridge joint components and set new panels on the moveable and the fixed ends of the bridge.

DATES: This deviation is effective from 7 a.m. on Monday, October 15, 2001 until 7 p.m. on Wednesday, October 17, 2001.

ADDRESSES: Unless otherwise indicated, documents referred to in this notice are available for inspection or copying at the office of the Eighth Coast Guard District, Bridge Administration Branch, Commander (ob), 501 Magazine Street, New Orleans, Louisiana, 70130-3396. The Bridge Administration Branch maintains the public docket for this temporary deviation.

FOR FURTHER INFORMATION CONTACT: David Frank, Bridge Administration Branch, telephone (504) 589-2965.

SUPPLEMENTARY INFORMATION: The Union Pacific Railroad vertical lift span bridge across the Atchafalaya River, mile 107.4, near Melville, St. Landry and Point Coupee Parishes, Louisiana, has a vertical clearance of 4 feet above high water in the closed-to-navigation position and 54 feet above mean high water in the open-to-navigation position. Navigation on the waterway consists mainly of tugs with tows. The Union Pacific Railroad requested a temporary deviation from the normal operation of the drawbridge in order to accommodate the maintenance and repair work on the bridge. These repairs are necessary for the continued operation of the bridge.

This deviation allows the draw of the Union Pacific Railroad vertical lift span drawbridge across the Atchafalaya River, mile 107.4, to remain closed to navigation from 7 a.m. until 7 p.m. on Monday, October 15, 2001 and from 7 a.m. until 7 p.m. on Wednesday, October 17, 2001.

Dated: August 27, 2001.
Roy J. Casto,
Rear Admiral, U. S. Coast Guard, Commander, Eighth Coast Guard District.

[FR Doc. 01-22395 Filed 9-5-01; 8:45 am]

BILLING CODE 4910-15-P